FEDERAL COMMUNICATIONS COMMISSION

[GN Docket No. 18-122; DA 20-578; FRS 16821]

Wireless Telecommunications Bureau Announces Accelerated Clearing in the 3.7-4.2 GHz Band

AGENCY: Federal Communications Commission.

ACTION: Notice.

SUMMARY: In this document, the Commission announces that Eutelsat S.A. (Eutelsat), Intelsat US LLC (Intelsat), SES Americom Inc. (SES), Claro S.A. f/k/a Star One S.A. (Claro), and Telesat Canada (Telesat) have committed to clearing the 3.7-4.0 GHz band on the accelerated timeline described in the 3.7 GHz Report and Order. The Commission finds that each of the eligible operators filed an election that meets the criteria set forth in the Report and Order and the Public Notice released on May 11, 2020 detailing the process for making an accelerated relocation election and the commitments that eligible space station operators were required to make when filing an Accelerated Relocation Election. Additionally, each eligible operator has accepted the obligations and acknowledgments associated with accelerated clearing.

DATES: Space station operators that have elected to meet the Accelerated Relocation Deadlines must satisfy the Phase I Deadline by December 5, 2021, and the Phase II deadline by December 5, 2023.

ADDRESSES: Federal Communications Commission, 445 12th Street SW, Washington, DC 20554.

FOR FURTHER INFORMATION CONTACT: Anna Gentry of the Wireless Telecommunications Bureau, at (202) 418-7769 or anna.gentry@fcc.gov.

SUPPLEMENTARY INFORMATION: This is a summary of the Commission's Public Notice in GN Docket No. 18-122, DA 20-578, released on June 1, 2020. The full text of this document is available for inspection and copying during normal business hours in the FCC Reference Center, 445 12th Street SW, Room CY-A257, Washington, DC 20554, or by downloading the text from the Commission's website at https://docs.fcc.gov/public/attachments/DA-20-578A1.pdf. Alternative formats are available for people with disabilities (Braille, large print, electronic files, audio format), by sending an email to FCC504@fcc.gov or calling the Consumer and Governmental Affairs Bureau at (202) 418-0530 (voice), (202) 418-0432 (TTY).

Synopsis

In the Public Notice, the Wireless Telecommunications Bureau (WTB) announces that Eutelsat S.A. (Eutelsat), Intelsat US LLC (Intelsat), SES Americom Inc. (SES), Claro S.A. f/k/a Star One S.A. (Claro), and Telesat Canada (Telesat) have committed to clear the 3.7-4.0 GHz band on the accelerated timeline described in the 3.7 GHz Report and Order. Together, these satellite operators have accepted, in aggregate, relocation payments that exceed the minimum threshold (80%) established by the Commission and, therefore, accelerated clearing of this band has been triggered.

On March 3, 2020, the Commission released the 3.7 GHz Report and Order, which adopted new rules to make 280 megahertz of mid-band spectrum available for flexible use through a Commission-administered public auction of overlay licenses, plus a 20 megahertz guard band, throughout the contiguous United States by transitioning existing services out of the lower portion and into the upper 200 megahertz of the 3.7-4.2 GHz band (C-band). The Report and Order required eligible space station operators committing to accelerated clearing to make their election by May 29, 2020 to provide potential bidders with adequate certainty regarding the clearing date and payment obligations associated with each license should they become overlay licensees. The Commission found that at least 80% of accelerated relocation payments must be accepted via Accelerated Relocation Elections in order for the Commission to accept elections and require overlay licensees to pay accelerated relocation payments.

On May 11, 2020, WTB released a Public Notice detailing the process for making an accelerated relocation election and the commitments that eligible space station operators were required to make when filing an Accelerated Relocation Election. By electing accelerated relocation, the eligible space station operators voluntarily commit to adhere to the requirements, policies, and procedures established by the Commission in the Report and Order. WTB prescribed the format for filing an accelerated relocation election.

Each of the eligible operators filed an election that meets the criteria set forth in the Report and Order and the Public Notice. Additionally, each eligible operator has accepted the obligations and acknowledgements associated with accelerated clearing.

Federal Communications Commission.
Amy Brett,
Associate Division Chief, Competition and Infrastructure Policy Division, Wireless Telecommunications Bureau.

[FR Doc. 2020-12471 Filed 6-8-20; 8:45 am]

BILLING CODE 6712-01-P